DEPARTMENT OF COMMERCE

National Oceanic and Atmospheric Administration

RIN 0648-XG342

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Research Steering Committee to consider actions affecting New England fisheries in the exclusive economic zone (EEZ). Recommendations from this group will be brought to the full Council for formal consideration and action, if appropriate.

DATES: This meeting will be held on Wednesday, August 8, 2018 at 9:30 a.m.

ADDRESSES:

Meeting address: The meeting will be held at the Hilton Garden Inn, 100 High Street, Portsmouth, NH 03801; telephone: (603) 431-1499.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Research Steering Committee will develop Council recommendations regarding the Research Review Policy and the purpose and functions of the RSC. They will also receive updates on improving the functionality of how research priorities are listed, Council Coordination Committee discussion, and other developments; develop any additional Council recommendations. The Committee will meet the NEFSC new Fishery Monitoring & Research Division Chief and receive updates on cooperative research activities; develop Council recommendations as well as receive an overview of the NEFMC's ongoing review of the Research-Set-Aside programs; develop Council recommendations. The Research Steering Committee will review completed research project on: An experimental fishery for silver hake/whiting in Small Mesh Area I and the Western Raised Footrope Exemption Area; develop Council recommendations. Address other business as necessary.

Although non-emergency issues not contained on this agenda may come before the Council for discussion, those issues may not be the subject of formal action during this meeting. Council action will be restricted to those issues specifically listed in this notice and any issues arising after the publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: July 16, 2018.
Tracey L. Thompson,
Acting Deputy Director, Office of Sustainable Fisheries, National Marine Fisheries Service.

[FR Doc. 2018-15454 Filed 7-18-18; 8:45 am]

BILLING CODE 3510-22-P